DEPARTMENT OF COMMERCE

International Trade Administration

[A-583-853]

Certain Crystalline Silicon Photovoltaic Products From Taiwan: Notice of Preliminary Results of Antidumping Duty Changed Circumstances Review

AGENCY: Enforcement and Compliance, International Trade Administration, Department of Commerce.

SUMMARY: The Department of Commerce (Commerce) preliminarily determines that United Renewable Energy Co., Ltd. (URE) is the successor-in-interest to Gintech Energy Corporation (Gintech), Neo Solar Power Corporation (Neo Solar), and Solartech Energy Corporation (Solartech). If these preliminary results are adopted in our final results, we will assign URE the cash deposit rate assigned to Gintech, Neo Solar, and Solartech. We invite parties to comment on these preliminary results.

DATES: Applicable June 10, 2019.

FOR FURTHER INFORMATION CONTACT: Robert Galantucci, AD/CVD Operations, Office IV, Enforcement and Compliance, International Trade Administration, U.S. Department of Commerce, 1401 Constitution Avenue NW, Washington, DC 20230; telephone: (202) 482-2923.

SUPPLEMENTARY INFORMATION:

Background

On February 18, 2015, Commerce published in the Federal Register an antidumping duty order on certain crystalline silicon photovoltaic products (solar products) from Taiwan.¹ On February 1, 2019, Commerce received a request on behalf of URE for an expedited changed circumstances review (CCR) to determine whether URE is the successor-in-interest to Gintech, Neo Solar, and Solartech.² On March 26, 2019, we initiated a CCR and published notice in the Federal Register.³

¹ See Certain Crystalline Silicon Photovoltaic Products from Taiwan: Antidumping Duty Order, 80 FR 8596 (February 18, 2015).

² See URE's Letter, “Certain Crystalline Silicon Photovoltaic Products from Taiwan: Request for Changed Circumstances Review and Successor-in-Interest Determination,” dated February 1, 2019 (CCR Request).

³ See Certain Crystalline Silicon Photovoltaic Products from Taiwan: Initiation of Antidumping Duty Changed Circumstances Review, 84 FR 11284 (March 26, 2019).

On April 10, 2019, SunPower Manufacturing Oregon LLC, a domestic producer of subject merchandise and successor to SolarWorld Americas (the petitioner), filed a letter in support of an affirmative successor-in-interest determination.⁴ We received no additional comments on URE's CCR request.

⁴ See the petitioner's Letter, “Certain Crystalline Silicon Photovoltaic Products from Taiwan: Support for Successor-in-Interest Determination Requested by United Renewable Energy Co. Ltd.,” dated April 10, 2019.

Scope of the Order

The merchandise covered by this order is crystalline silicon photovoltaic cells, and modules, laminates and/or panels consisting of crystalline silicon photovoltaic cells, whether or not partially or fully assembled into other products, including building integrated materials.

Merchandise covered by the order is currently classified in the Harmonized Tariff Schedule of the United States (HTSUS) under subheadings 8501.61.0000, 8507.20.8030, 8507.20.8040, 8507.20.8060, 8507.20.8090, 8541.40.6020, 8541.40.6030 and 8501.31.8000. These HTSUS subheadings are provided for convenience and customs purposes; the written description of the scope of the order is dispositive. For a full description of the scope of the order, please refer to the accompanying Preliminary Decision Memorandum.⁵

⁵ See Memorandum, “Decision Memorandum for the Preliminary Results of the Antidumping Duty Changed Circumstances Review: Certain Crystalline Silicon Photovoltaic Products from Taiwan,” dated concurrently with this notice (Preliminary Decision Memorandum).

Methodology

We are conducting this CCR in accordance with section 751(b)(1) of the Tariff Act of 1930, as amended (the Act). For a full description of the methodology underlying our analysis, please refer to the accompanying Preliminary Decision Memorandum. For a list of topics addressed in the Preliminary Decision Memorandum, please see the Appendix to this notice.

Preliminary Results of Changed Circumstances Review

In accordance with 19 CFR 351.216, we preliminarily determine that URE is the successor-in-interest to Gintech, Neo Solar, and Solartech. Record evidence indicates that URE's management, board of directors and ownership are materially similar to those of Gintech, Neo Solar, and Solartech prior to their merger. Moreover, we preliminarily find that URE assumed the production facilities of Gintech, Neo Solar, and Solartech, and substantially assumed the supplier relationships and customer base of the predecessor companies. For the complete successor-in-interest analysis, please refer to the accompanying Preliminary Decision Memorandum.

Furthermore, we preliminarily determine that, as the successor-in-interest to Gintech, Neo Solar, and Solartech, URE should receive the same antidumping duty treatment with respect to the subject merchandise as Gintech, Neo Solar, and Solartech. If we continue to reach the same determination for the final results of this CCR, we will assign URE the cash deposit rate assigned to Gintech, Neo Solar, and Solartech, effective on the publication date of the final results in the Federal Register. At that time, we will instruct U.S. Customs and Border Protection (CBP) to collect the cash deposits accordingly.

Public Comment

Pursuant to 19 CFR 351.310(c), any interested party may request a hearing within 10 days of publication of this notice in the Federal Register. In accordance with 19 CFR 351.309(c)(1)(ii), interested parties may submit case briefs not later than 10 days after the date of publication of this notice. Rebuttal briefs, limited to issues raised in the case briefs, may be filed no later than five days after the case briefs, in accordance with 19 CFR 351.309(d). Parties who submit case or rebuttal briefs are encouraged to submit with each argument: (1) A statement of the issue; (2) a brief summary of the argument; and (3) a table of authorities. All comments are to be filed electronically using Enforcement and Compliance's Antidumping and Countervailing Duty Centralized Electronic Service System (ACCESS), available to registered users at http://access.trade.gov and in the Central Records Unit, Room B8024, of the main Department of Commerce building. An electronically filed document must be received successfully in its entirety by ACCESS by 5:00 p.m. Eastern Time on the day on which it is due.⁶

⁶ See 19 CFR 351.303(b).

Consistent with 19 CFR 351.216(e), we intend to issue the final results of this CCR no later than 270 days after the date on which this review was initiated, or within 45 days if all parties agree to our preliminary finding.

This notice is published in accordance with sections 751(b)(1) of the Act and 19 CFR 351.216(b), 351.221(b), and 351.221(c)(3).

Dated: June 4, 2019.
Jeffrey I. Kessler,
Assistant Secretary for Enforcement and Compliance.

Appendix

List of Topics Discussed in the Preliminary Decision Memorandum

I. Summary

II. Background

III. Scope of the Order

IV. Preliminary Results of Changed Circumstances Review

V. Recommendation

[FR Doc. 2019-12132 Filed 6-7-19; 8:45 am]

BILLING CODE 3510-DS-P